DEPARTMENT OF DEFENSE

Department of the Army

Proposed Collection; Comment Request

AGENCY: Deputy Chief of Staff for Personnel (DAPE-ZXI-RM), U.S. Army, DoD.

ACTION: Notice.

In compliance with Section 3506 (c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will given to all comments received by May 15, 2000.

ADDRESSES: Written comments and recommendations on the proposed information collection should be sent to U.S. Army Corps of Engineers Waterborne Commerce Statistics Center, P.O. Box 61280, New Orleans, LA 70161 ATTN: CEWRC-NDC-C (J. Alexander Wieriman). Consideration will be given to all comments received within 60 days of the date of publication of this notice.

FOR FURTHER INFORMATION CONTACT: To request more information on this proposed information collection or to obtain a copy of the proposal and associated collection instruments, please write to the above address, or call Department of the Army Reports clearance officer at (703) 614-0454.

Title, Associated Form, and OMB Number: Vessel Operation Report, ENG Forms 3925, 3925B, 3925P, 3925C, 0710-0016.

Needs and Uses: The Corps of Engineers uses ENG Forms 3925, 3925B, and 3925P as the basic instruments to collect waterborne commerce statistics. This data constitutes the sole source for domestic vessel movements of freight and passengers on U.S. navigable waterways and harbors. The data is collected from vessel operating companies, and are essential in maintaining U.S. navigable waterways. The data is also critical to the enforcement of the Harbor Maintenance Tax authorized under Section 1402 of Public Law 99-662.

Affected Public: Business or other for profit.

Annual Burden Hours: 44,479.

Number of Respondents: 1,321.

Responses Per Respondent: 228,752.

Average Burden Per Response: 5 minutes.

Frequency: Monthly.

SUPPLEMENTARY INFORMATION: The information collected is the basic data from which the Corps of Engineers compiles and publishes waterborne commerce statistics. The data is used not only to report to Congress, but also to perform cost benefit studies for new projects, rehabilitation projects, and operations and maintenance of existing projects. The WCSC is the sole authorized collector of data on domestic waterborne commerce and provides same to maritime Administration (MARAD), Department of Energy, Tennessee Valley Authority, Interstate Commerce Commission, the Coast Guard, State taxing agencies, U.S. Customs Service, Department of Treasury, and the Internal Revenue Service.

Gregory D. Showalter,
Army Federal Register Liaison Officer.

[FR Doc. 00-6342 Filed 3-14-00; 8:45 am]

BILLING CODE 3710-08-M